ENVIRONMENTAL PROTECTION AGENCY

[Docket# EPA-RO4-SFUND-2011-0149, FRL-9274-9]

Puckett Smelter Superfund Site; Mountainboro, Etowah County, AL; Notice of Settlement

AGENCY: Environmental Protection Agency.

ACTION: Notice of settlement.

SUMMARY: Under Section 122(h)(1) of the Comprehensive Environmental Response, Compensation and Liability Act (CERCLA), the United States Environmental Protection Agency has entered into a settlement for reimbursement of past response costs concerning the Puckett Smelter Superfund Site located in Mountainboro, Etowah county, Alabama for publication.

DATES: The Agency will consider public comments on the settlement until April 4, 2011. The Agency will consider all comments received and may modify or withdraw its consent to the settlement if comments received disclose facts or considerations which indicate that the settlement is inappropriate, improper, or inadequate.

ADDRESSES: Copies of the settlement are available from Ms. Paula V. Painter. Submit your comments, identified by Docket ID No. EPA-RO4-SFUND-2011-0149 or Site name Puckett Smelter Superfund Site by one of the following methods:

• http://www.regulations.gov: Follow the on-line instructions for submitting comments.

• http://www.epa.gov/region4/waste/sf/enforce.htm.

• E-mail: Painter.Paula@epa.gov.

FOR FURTHER INFORMATION CONTACT: Paula V. Painter at 404/562-8887.

Dated: February 10, 2011.
Anita L. Davis,
Chief, Superfund Enforcement & Information Management Branch, Superfund Division.

[FR Doc. 2011-4771 Filed 3-2-11; 8:45 am]

BILLING CODE 6560-50-P